DEPARTMENT OF COMMERCE

National Oceanic and Atmospheric Administration

[RTID 0648-XC832]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, April 3 through Thursday, April 6, 2023, from 8 a.m. to 5 p.m., CDT.

ADDRESSES: Meeting address: The meeting will take place at the Courtyard Marriott Gulfport Beachfront hotel, located at 1600 East Beach Boulevard, Gulfport, MS 39501.

Please note, in-person meeting attendees will be expected to follow any current safety protocols as determined by the Council, hotel and the City of Gulfport, if any. Such precautions may include masks, room capacity restrictions, and/or social distancing. If you prefer to “listen in”, you may access the log-on information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, April 3, 2023; 8 a.m.-5 p.m., CDT

The meeting will begin in a CLOSED SESSION of the FULL COUNCIL to review and select Coastal Migratory Pelagic (CMP) Advisory Panel (AP) members, 2022 Law Enforcement Officer/Team of the Year, and consider the replacement of a member for the Standing Scientific and Statistical Committee. At approximately 9 a.m. the meeting will open to the public with the Mackerel Committee reviewing the CMP Landings, Final Action: Draft Framework Amendment 12: Modifications to the Gulf of Mexico Migratory Group King Mackerel Gillnet Fishing Season and recommendations from the CMP AP December 2022 meeting.

The Data Collection Committee will receive an update on Southeast For-Hire Integrated Reporting (SEFHIER) Program: Discussion on 5th Circuit Court of Appeals Ruling and Regulatory Next Steps, Modification to Commercial Coastal Logbook Reporting Requirements, discussion on Private Angler Licensing Requirements and the Feasibility of a Federal Private Angling Permit Initiatives for federal private recreational management and any remaining Data Collection AP Summary items from the February 13, 2023 meeting.

Following lunch, the Shrimp Committee will convene to review and discuss the Biological Review of Texas Closure, Updates on NMFS VMS Pilot Project on Shrimp Vessels, Report on Expanded Sampling of the Fleet for Effort Monitoring in the Gulf Shrimp Fishery, and the Draft Shrimp Framework Action: Modification of the Vessel Position Data Collection Program for the Gulf of Mexico Shrimp Fishery. The Committee will receive an Update on Shrimp Effort Estimation Model and 2021 Gulf Shrimp Fishery Effort, Shrimp Advisory Panel Summary Reports, and Scientific and Statistical Committee Summary Report from the March 2023 meetings.

The Reef Fish Committee will convene and review Recent Reef Fish, For-hire, and Individual Fishing Quota Landings.

Tuesday, April 4, 2023; 8 a.m.-5 p.m., CDT

The Reef Fish Committee will reconvene to review and discuss Public Hearing Draft for Amendment 56: Modifications to the Gag Grouper Catch Limits, Sector Allocations, and Fishing Seasons, Draft Framework: Modifications to Recreational and Commercial Greater Amberjack Management Measures, and Discussion of Individual Fishing Quota (IFQ) Objectives.

Reef Fish Committee will review the SSC Summary Report and Recommendations from the March 2023 Meeting; Scamp and Yellowmouth Grouper Updated Catch Projections; Evaluating Bottom Fishing Seasonal Closures in the Recreational Fishery; Greater Amberjack Discard Mortality; Greater Amberjack Count Update; Evaluating Wenchman and Mid-water Snapper Landings; and, Other Items from March 2023 SSC Meeting. The Committee will discuss and review Draft Options: Updating Recreational Red Snapper Calibration Ratios and Establishing Gray Snapper Catch Limits.

Immediately following the Reef Fish Committee, National Marine Fisheries Service Staff will host a General Question and Answer Session.

Wednesday, April 5, 2023; 8 a.m.-5 p.m., CDT

The Sustainable Fisheries Committee will receive a presentation on A Brief Introduction to how Management Strategy Evaluation can Address Some Key Challenges before the Council; receive an overview of Potential Options for Regulatory Streamlining; a presentation on Factors to Consider for the Inclusion of Species in Federal Management; and, a presentation SSC Report on Allocation Approaches.

At approximately 11:15 a.m., CDT, the Council will convene with a Call to Order, Announcements and Introductions, Adoption of Agenda and Approval of Minutes. The Council will receive updates from the Bureau of Ocean Energy Management (BEOM) on Wind Energy Development in the Gulf of Mexico and NOAA Fisheries' Equity and Environmental Justice (EEJ) Strategy, Regional Implementation Process, and Schedule.

The Council will hold public testimony from 1:30 p.m. to 5 p.m., CDT on Final Action: Draft Framework Amendment 12: Modifications to the Gulf of Mexico Migratory Group King Mackerel Gillnet Fishing Season; and, open testimony on other fishery issues or concerns. Public comment may begin earlier than 1:30 p.m. CDT, but will not conclude before that time. Persons wishing to give public testimony in-person must register at the registration kiosk in the meeting room. Persons wishing to give public testimony virtually must sign up via the link on the Council website. Registration for virtual testimony is open at the start of the meeting, Monday, April 3rd at 8 a.m., CDT and closes one hour before public testimony begins on Wednesday, April 5th at 12:30 p.m., CDT.

Thursday, April 6, 2023; 8 a.m.-5 p.m., CDT

The Council will receive Committee reports from Mackerel, Data Collection, Shrimp, Reef Fish, Sustainable Fisheries Management Committees as well as the closed session report the Council will receive updates from the following supporting agencies: South Atlantic Fishery Management Council; Mississippi Law Enforcement Efforts; NOAA Office of Law Enforcement (OLE); Gulf States Marine Fisheries Commission; U.S. Coast Guard; U.S. Fish and Wildlife Service; and Department of State.

The Council will discuss any Other Business items; and, Litigation update.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: March 7, 2023.
Rey Israel Marquez,
Acting Deputy Director, Office of Sustainable Fisheries, National Marine Fisheries Service.

[FR Doc. 2023-04944 Filed 3-9-23; 8:45 am]

BILLING CODE 3510-22-P